ENVIRONMENTAL PROTECTION AGENCY

[FRL-9986-59-OW]

Meeting of the National Drinking Water Advisory Council

AGENCY: Environmental Protection Agency (EPA).

ACTION: Notice of a public meeting.

SUMMARY: The U.S. Environmental Protection Agency (EPA) is announcing a meeting of the National Drinking Water Advisory Council (NDWAC or Council) as authorized under the Safe Drinking Water Act (SDWA). The purpose of the meeting is to allow the EPA to present an overview of the Agency's Safe Drinking Water Act programs for the fiscal year 2019, including an introduction of the benefits of improving public drinking water system's capacity through partnerships. A public comment period will be provided.

DATES: The meeting will be held on December 6, 2018, from 9:30 a.m. to 4:15 p.m., eastern time, and on December 7, 2018 from 8:45 a.m. to 12:30 p.m., eastern time.

ADDRESSES: The U.S. Environmental Protection Agency, 1201 Constitution Avenue NW, WJC South, Room 6226, ARS NETI Training Room, Washington, DC 20004.

SUPPLEMENTARY INFORMATION:

Details about Attending the Meeting: The meeting is open to the general public. If you wish to attend the meeting, you may register by sending an email to Tracey M. Ward, the NDWAC Designated Federal Officer (DFO) at: ward.tracey@epa.gov. The email subject line should read: “NDWAC 2018 Attendee.” Your email should include your name, address, and telephone number.

Guests from the private sector must present an unexpired, government-issued photo identification (ID) that comports with requirements of the REAL ID Act, be screened through security equipment, sign in, and be verified/met in the lobby by an EPA employee. Please Note: driver's licenses from some states may not be compliant with the REAL ID Act and, therefore, will not be accepted; alternative ID documents will be necessary in those cases. Foreign national visitors are strongly encouraged to provide advanced notice of attendance, must present a valid passport for entry, and must meet all pre-clearance requirements.

The EPA will allocate one hour for the public to present comments at the meeting on December 7, 2018. Oral statements will be limited to five minutes per person during the public comment period. It is preferred that only one person present a statement on behalf of a group or organization. To ensure adequate time for public involvement, individuals or organizations interested in presenting an oral statement should notify: Tracey M. Ward, the NDWAC DFO, by email at: ward.tracey@epa.gov, no later than November 26, 2018. Any person who wishes to file a written statement can do so before or after the Council meeting. Send written statements to: Tracey Ward, NDWAC DFO, Office of Ground Water and Drinking Water (Mail Code 4601), U.S. Environmental Protection Agency, 1200 Pennsylvania Avenue NW, Washington, DC 20460; or email at: ward.tracey@epa.gov.

Written statements intended for the meeting must be received before November 26, 2018, to be distributed to all members of the Council for their consideration. Any statements received on or after the date specified will become part of the permanent file for the meeting and will be forwarded to the Council members after conclusion of the meeting.

Special Accommodations: For information on access or services for individuals with disabilities, please contact Tracey Ward at: (202) 564-3796 or by email at: ward.tracey@epa.gov. To request an accommodation for a disability, please contact Tracey Ward at least 15 days prior to the meeting date to allow the EPA as much time as possible to attend to your request.

National Drinking Water Advisory Council: The NDWAC was created by Congress on December 16, 1974, as part of the Safe Drinking Water Act (SDWA) of 1974, Public Law 93-523, 42 U.S.C. 300j-5, and is operated in accordance with the provisions of the Federal Advisory Committee Act (FACA), 5 U.S.C. App. 2. The NDWAC was established under the SDWA to provide practical and independent advice, consultation, and recommendations to the EPA Administrator on the activities, functions, policies, and regulations required by the SDWA.

Dated: November 7, 2018.
Peter Grevatt,
Director, Office of Ground Water and Drinking Water.

[FR Doc. 2018-25081 Filed 11-15-18; 8:45 am]

BILLING CODE 6560-50-P